DEPARTMENT OF TRANSPORTATION

Federal Aviation Administration

Notice of Intent To Rule on Application To Impose and Use a Passenger Facility Charge (PFC) at Elko Regional Airport, Elko, NV

AGENCY: Federal Aviation Administration (FAA), DOT.

ACTION: Notice of Intent to Rule on Application.

SUMMARY: The FAA proposes to rule and invites public comment on the application to impose and use a PFC at Elko Regional Airport under the provisions of the Aviation Safety and Capacity Expansion Act of 1990 (Title IX of the Omnibus Budget Reconciliation Act of 1990) (Pub. L. 101-508) and part 158 of the Federal Aviation Regulations (14 CFR part 158).

DATES: Comments must be received on or before October 2, 2000.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Ms. Linda Ritter, City Manager, City of Elko, at the following address: City Hall, 1751 College Avenue, Elko, Nevada 89801. Air carriers and foreign air carriers may submit copies of written comments previously provided to the city of Elko under § 158.23 of part 158.

FOR FURTHER INFORMATION CONTACT: Marlys Vandervelde, Airports Program Analyst, San Francisco Airports District Office, 831 Mitten Road, Room 210, Burlingame, CA 94010-1303, Telephone: (650) 876-2806. The application may be reviewed in person at this same location.

SUPPLEMENTARY INFORMATION: The FAA proposes to rule and invites public comment on the application to impose and use the revenue from a PFC at Elko Regional Airport under the provisions of the Aviation Safety and Capacity Expansion Act of 1990 (Title IX of the Omnibus Budget Reconciliation Act of 1990) (Pub. L. 101-508) and part 159 of the Federal Aviation Regulations (14 CFR part 158).

On May 3, 2000, the FAA determined that the application to impose and use a PFC submitted by the city of Elko was not substantially complete within the requirements of § 158.25 of part 158. On July 11, 2000, the city of Elko submitted supplemental information to complete this application. The FAA will approve or disapprove the application, in whole or in part, no later than November 9, 2000.

The following is a brief overview of the impose and use application No. 00-02-C-00-EKO:

Level of proposed PFC: $3.00.

Proposed charge effective date: February 1, 2001.

Proposed charge expiration date: September 1, 2018.

Total estimated PFC revenue: $6,194,920.

Brief description of proposed projects: Terminal Building Expansion, Phase II-IV, Terminal Access Road-Phase II, Master Drainage Study, Commercial Apron & Connecting Taxiways, and Terminal Building.

Class or classes of air carriers which the public agency has requested not be required to collect PFCs: None.

Any person my inspect the application in person at the FAA office listed above under FOR FURTHER INFORMATION CONTRACT and at the FAA Regional Airports Division located at: Federal Aviation Administration, Airports Division, 15000 Aviation Blvd., Lawndale, CA 90261. In addition, any person may, upon request, inspect the application, notice and other documents germane to the application in person at the city of Elko.

Issued in Hawthorne, California, on August 4, 2000.
Herman C. Bliss,
Manager, Airports Division, Western-Pacific Region.

[FR Doc. 00-22543 Filed 8-31-00; 8:45 am]

BILLING CODE 4910-13-M